DEPARTMENT OF ENERGY

Federal Energy Regulatory Commission

Sunshine Act Notice

February 4, 2004.

The following notice of meeting is published pursuant to section 3(A) of the Government in the Sunshine Act (Pub. L. 94-409), 5 U.S.C 552b:

Agency Holding Meeting: Federal Energy Regulatory Commission.

Date and Time: February 11, 2004, 10 a.m.

Place: Room 2C, 888 First Street, NE., Washington, DC 20426.

Status: Open.

Matters to be Considered: Agenda.

* Note.—Items listed on the agenda may be deleted without further notice.

FOR FURTHER INFORMATION CONTACT: Magalie R. Salas, Secretary, telephone (202) 502-8400, for a recording listing items stricken from or added to the meeting, call (202) 502-8627.

This is a list of matters to be considered by the Commission. It does not include a listing of all papers relevant to the items on the agenda; however, all public documents may be examined in the Reference and Information Center.

850th—Meeting, February 11, 2004, Regular Meeting, 10 a.m.

Administrative Agenda

A-1.

Docket# AD02-1, 000, Agency Administrative Matters

A-2.

Docket# AD02-7, 000, Customer Matters, Reliability, Security and Market Operations

Markets, Tariffs and Rates—Electric

E-1.

Omitted

E-2.

Docket# ER03-1102, 000, California Independent System Operator Corporation

E-3.

Docket# ER03-1272, 000, Entergy Services, Inc

Other#S ER03-1272, 001, Entergy Services, Inc

E-4.

Omitted

E-5.

Docket# ER04-308, 000, Cabrillo Power I LLC and Cabrillo Power II LLC

E-6.

Docket# ER04-295, 000, Pacific Gas and Electric Company

E-7.

Docket# ER03-1354, 000, Black Hills Power, Inc.

Other#S ER03-1354, 001, Basin Electric Power Cooperative

ER03-1354, 002, Powder River Energy Corporation

E-8.

Omitted

E-9.

Docket# ER04-341, 000, Vermont Electric Cooperative, Inc.

E-10.

Omitted

E-11.

Docket# ER04-361, 000, PJM Interconnection L.L.C.

E-12.

Omitted

E-13.

Omitted

E-14.

Docket# ER03-142, 000, Southern California Edison Company

E-15.

Docket# ER03-599, 000, Entergy Services, Inc

Other#S ER03-599, 001, Entergy Services, Inc

ER03-599, 002, Entergy Services, Inc

ER03-599, 003, Entergy Services, Inc

E-16.

Docket# ER04-139, 000, Michigan Electric Transmission Company, LLC

Other#s ER04-139, 001, Michigan Electric Transmission Company, LLC

ER04-315, 000, Michigan Electric Transmission Company, LLC

E-17.

Docket# ER03-600, 000, Cross-Sound Cable Company, LLC

Other#s ER03-600, 001, Cross-Sound Cable Company, LLC

E-18.

Docket# ER04-230, 000, New York Independent System Operator, Inc.

Other#s ER04-230, 001, New York Independent System Operator, Inc.

E-19.

Docket# NJ03-3, 001, United States Department of Energy Bonneville Power Administration

E-20.

Omitted

E-21.

Docket# ER02-851, 013, Southern Company Services, Inc.

E-22.

Docket# ER03-93, 000, El Paso Electric Company

E-23. Docket# TX03-1, 000, Mirant Las Vegas, LLC, Duke Energy, Moapa, LLC, GenWest, LLC, Las Vegas, Cogeneration II, LLC, Reliant Energy, Bighorn, LLC

Other#s ER02-1741, 000, Nevada Power Company

ER02-1741, 001, Nevada Power Company

ER02-1741, 002, Nevada Power Company

ER02-1742, 000, Nevada Power Company

ER02-1742, 001, Nevada Power Company

ER02-1742, 002, Nevada Power Company

TX03-1, 001, Mirant Las Vegas, LLC, Duke Energy Moapa, LLC, GenWest, LLC, Las Vegas Cogeneration II, LLC, Reliant Energy Bighorn, LLC

TX03-1, 002, Mirant Las Vegas, LLC, Duke Energy Moapa, LLC, GenWest, LLC, Las Vegas, Cogeneration II, LLC, Reliant Energy Bighorn, LLC

E-24.

Docket# TX96-2, 001, City of College Station, Texas

Other#s TX96-2, 004, City of College Station, Texas

TX96-2, 005, City of College Station, Texas

TX96-2, 006, City of College Station, Texas

TX96-2, 007, City of College Station, Texas

TX96-2, 008, City of College Station, Texas

E-25.

Docket# ER97-2355, 005, Southern California Edison Company

Other#s ER98-1261, 002, Southern California Edison Company

ER98-1685, 001, Southern California Edison Company

E-26.

Docket# ER01-890, 004, Boston Edison Company

Other#s ER01-890, 005, Boston Edison Company

ER02-1465, 001, Boston Edison Company

ER02-1465, 002, Boston Edison Company

E-27.

Docket# EL03-14, 001, City of Azusa, California

Other#s EL00-105, 007, City of Vernon, California

ER00-2019, 007, California Independent System Operator Corporation

EL03-15, 001, City of Anaheim, California

EL03-20, 001, City of Riverside, California

EL03-21, 001, City of Banning, California

E-28.

Docket# ER03-540, 007, Carolina Power & Light Company and Florida Power Corporation

E-29.

Omitted

E-30.

Docket# EL01-93, 007, Mirant Americas Energy Marketing, LP, Mirant New England, LLC, Mirant Kendall, LLC, and Mirant, LLC v. ISO New England Inc.

E-31.

Omitted

E-32.

Docket# ER03-1140, 001, Entergy Services, Inc.

Other#s ER03-1140, 002, Entergy Services, Inc.

E-33.

Omitted

E-34.

Omitted

E-35.

Docket# ER99-2326, 005, Pacific Gas and Electric Company

Other#s EL99-68, 005, Pacific Gas and Electric Company

E-36.

Docket# ER99-28, 005, Sierra Pacific Power Company

Other#s EL99-38, 004, Sierra Pacific Power Company

ER99-945, 004, Sierra Pacific Power Company

E-37.

Docket# EG04-24, 000, Duke Energy Vermillion, LLC

E-38.

Docket# EG04-25, 000, POSDEF Power Company, L.P.

E-39.

Docket# EG04-29, 000, Jubail Energy Company

E-40.

Docket# EG04-27, 000, Shuweihat CMS International Power Company

Other#s EG04-28, 000, Shuweihat O&M Limited Partnership

E-41.

Docket# EL04-13, 000, Golden Spread Electric Cooperative, Inc.

E-42.

Docket# EL04-24, 000, California Independent System Operator Corporation

E-43.

OMITTED

E-44.

OMITTED

E-45.

OMITTED

E-46.

OMITTED

E-47.

OMITTED

E-48.

OMITTED

E-49.

OMITTED

E-50.

Omitted

E-51.

Docket# TX96-4, 001, Suffolk County Electrical Agency

E-52.

Docket# EL00-66, 000, Louisiana Public Service Commission and the Council of the City of New Orleans v. Entergy Corporation

Other#s EL95-33, 002, Louisiana Public Service Commission v. Entergy Services, Inc.

ER00-2854, 000, Entergy Services, Inc.

E-53.

Docket# EL04-30, 000, Black Hills Ontario, L.L.C.

Other#s QF84-122, 004, Black Hills Ontario, L.L.C.

E-54.

Docket# ER03-684, 000, Wisconsin Power & Light Company

Miscellaneous Agenda

M-1.

Docket# RM03-8, 000, Quarterly Financial Reporting and Revisions to the Annual Reports

M-2.

Docket# RM02-4, 002, Critical Energy Infrastructure Information

Other#s PL02-1, 002, Critical Energy Infrastructure Information

RM03-6, 001, Amendments to Conform Regulations with Order No. 630 (Critical Energy Infrastructure Information Final Rule)

Markets, Tariffs and Rates—Gas

G-1.

Docket# RM04-4, 000, Creditworthiness Standards for Interstate Natural Gas Pipelines

G-2.

Docket# OR96-2, 000, ARCO Products Co. a Division of Atlantic Richfield Company, Texaco Refining and Marketing Inc., and Mobil Oil Corporation v. SFPP

Other#s OR92-2, 002, Ultramar Diamond Shamrock Corporation and Ultramar, Inc. v. SFPP

OR96-2, 002, SFPP, L.P.

OR96-10, 000, ARCO Products Co. a Division of Atlantic Richfield Company, Texaco Refining and Marketing Inc., and Mobil Oil Corporation v. SFPP

OR96-10, 002, SFPP, L.P.

OR96-15, 000, Ultramar Diamond Shamrock Corporation and Ultramar, Inc. v. SFPP

OR96-17, 000, Ultramar Diamond Shamrock Corporation and Ultramar, Inc. v. SFPP

OR96-17, 002, SFPP, L.P.

OR97-2, 000, Ultramar Diamond Shamrock Corporation and Ultramar, Inc. v. SFPP

OR98-1, 000, ARCO Products Co. a Division of Atlantic Richfield Company, Texaco Refining and Marketing Inc., and Mobil Oil Corporation v. SFPP

OR98-1, 000, Tosco Corporation v. SFPP

OR98-2, 000, Ultramar Diamond Shamrock Corporation and Ultramar, Inc. v. SFPP

IS98-1, 000, SFPP, L.P.

OR98-13, 000, Tosco Corporation v. SFPP

OR00-4, 000, ARCO Products Co. a Division of Atlantic Richfield Company, Texaco Refining and Marketing Inc., and Mobil Oil Corporation v. SFPP

OR00-7, 000, Navaho Refining Corporation v. SFPP

OR00-9, 000, Ultramar Diamond Shamrock Corporation and Ultramar, Inc. v. SFPP

OR00-9, 000, Tosco Corporation v. SFPP

OR00-10, 000, Refinery Holding Company v. SFPP

G-3.

Docket# RP04-138, 000, Tennessee Gas Pipeline Company

G-4.

Docket# PR01-16, 000, Bridgeline Holdings, L.P.

Other#s PR01-16, 001, Bridgeline Holdings, L.P.

G-5.

Docket# PR04-1, 000, Kinder Morgan Border Pipeline, L.P.

Other#s PR04-1, 001, Kinder Morgan Border Pipeline, L.P.

G-6.

Docket# CP00-6, 009, Gulfstream Natural Gas System, L.L.C.

Other#s RP03-173, 001, Gulfstream Natural Gas System, L.L.C.

G-7.

Docket# RP98-40, 000, Panhandle Eastern Pipe Line Company

Other#s GP98-27, 000, ONEOK Exploration Co.

SA99-7, 000, Charlotte Hill Gas Co.

SA98-100, 000, Partnership Properties Co., a/k/a IMC Global, Inc.

G-8.

Docket# RP03-222, 000, Columbia Gas Transmission Corporation

G-9.

Docket# RP03-281, 000, Columbia Gas Transmission Corporation

RP03-281, 001, Columbia Gas Transmission Corporation

RP03-281, 002, Columbia Gas Transmission Corporation

G-10.

Docket# RP03-123, 000, Southern Natural Gas Company

Other#s RP02-86, 001, Southern Natural Gas Company

RP03-123, 001, Southern Natural Gas Company

RP04-79, 000, Southern Natural Gas Company

G-11.

Docket# PR03-18, 000, Katy Storage and Transportation, L.P.

G-12.

Docket# RP03-582, 002, Florida Gas Transmission Company

RP03-582, 001, Florida Gas Transmission Company

G-13.

Omitted

G-14.

Docket# PR00-9, 002, GulfTerra Texas Pipeline, L.P.

G-15.

Docket# RP03-484, 001, Toca Producers v. Southern Natural Gas Company

Other#s RP01-208, 001, Amoco Production Company, BP Exploration & Oil Inc., Chevron U.S.A. Inc., Exxon/Mobil Gas Marketing Company, and Shell Offshore, Inc.

G-16.

Omitted

G-17.

Docket# RP00-387, 003, Florida Gas Transmission Company

Other#S RP00-387, 004, Florida Gas Transmission Company

G-18.

Docket# RP00-469, 004, East Tennessee Natural Gas Company

Other#S RP00-469, 005, East Tennessee Natural Gas Company

RP00-469, 006, East Tennessee Natural Gas Company

RP01-22, 006, East Tennessee Natural Gas Company

RP01-22, 007, East Tennessee Natural Gas Company

RP01-22, 008, East Tennessee Natural Gas Company

RP03-177, 001, East Tennessee Natural Gas Company

RP03-177, 002, East Tennessee Natural Gas Company

RP03-177, 003, East Tennessee Natural Gas Company

G-19.

Docket# RP02-23, 000, El Paso Natural Gas Company v. Phelps Dodge Corporation

G-20.

Docket# RP98-39, 034, Northern Natural Gas Company

Other#s GP98-5, 000, ExxonMobil Oil Corporation

GP98-12, 000, BP America Production Company

GP98-14, 000, Anadarko Petroleum Corporation

G-21.

Docket# OR01-2, 000, Big West Oil Company v. Frontier Pipeline Company and Express Pipeline Partnership

Other#s OR01-4, 000, Chevron Products Company v. Frontier Pipeline Company and Express Pipeline Partnership

G-22.

Docket# RP03-7, 002, Natural Gas Pipeline Company of America

Other#s RP03-7, 003, Natural Gas Pipeline Company of America

Energy Projects—Hydro

H-1.

Docket# P-2161, 008, Rhinelander Paper Company

H-2.

Omitted

H-3.

Docket# P-2305, 018, Sabine River Authority of Texas and Sabine River Authority of Louisiana

H-4.

Docket# P-1971, 081, Idaho Power Company

Other#s P-1971, 082, Idaho Power Company

H-5.

Docket# P-2149, 106, Public Utility District No. 1 of Douglas County, Washington

Other#s P-943, 083, Public Utility District No. 1 of Chelan County, Washington

P-2145, 057, Public Utility District No. 1 of Chelan County, Washington

Energy Projects—Certificates

C-1.

Docket# CP02-430, 004, Saltville Gas Storage Company, LLC

C-2.

Docket# CP01-49, 002, Northwest Pipeline Corporation

CP01-49, 003, Northwest Pipeline Corporation

C-3.

Docket# CP03-352, 000, Southern Star Central Gas Pipeline, Inc.

C-4.

Docket# CP01-415, 017, East Tennessee Natural Gas Company

C-5.

Docket# CP02-396, 006, Greenbrier Pipeline Company, LLC

Other#s CP02-397, 006, Greenbrier Pipeline Company, LLC

CP02-398, 006, Greenbrier Pipeline Company, LLC

C-6.

Docket# CP03-11, 003, Jupiter Energy Corporation

C-7.

Docket# CP01-418, 001, B-R Pipeline Company

C-8.

Interagency Agreement for the Safety and Security Review of Liquefied Natural Gas Facilities

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC''.

Magalie R. Salas,
Secretary.

[FR Doc. 04-3061 Filed 2-9-04; 10:45 am]

BILLING CODE 6717-01-P